DEPARTMENT OF HEALTH AND HUMAN SERVICES

Administration for Children and Families

Proposed Information Collection Activity; Mental Health Care Services for Unaccompanied Alien Children (New Collection)

AGENCY: Office of Refugee Resettlement, Administration for Children and Families, Department of Health and Human Services.

ACTION: Request for public comment.

SUMMARY: The Office of Refugee Resettlement (ORR), Administration for Children and Families (ACF), U.S. Department of Health and Human Services (HHS), is inviting public comments on the proposed collection. The request consists of several forms that allow the Unaccompanied Alien Children (UAC) Program to provide mental health care services to UAC.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION:

Description

1. Initial Mental Health Evaluation (Form MH-1): This instrument is used by clinicians to document the UAC's mental state upon arrival to the care provider facility. It includes an assessment of the UAC's current mental state, psychiatric history, and substance use history.

2. Columbia Suicide Severity Rating Scale (SSRS) Risk Assessment (Form MH-2): This instrument is used by clinicians to assess suicide risk for UAC who verbalize or demonstrate suicidal thoughts or behavior. It is a shorter version of the standard Columbia SSRS used to triage mental health care for UAC, a tool designed to support suicide risk assessment through a series of simple, plain-language questions that anyone can ask. The Columbia SSRS includes the most essential, evidence-supported questions required for a thorough assessment. Further information about the Columbia SSRS can be found at https://cssrs.columbia.edu/the-columbia-scale-c-ssrs/about-the-scale/.

3. Mental Health Group Event (Form MH-3): This instrument is used by clinicians to document group counseling or community meetings held at the care provider program.

4. Clinical Contact Log (Form MH-4): This instrument is used by clinicians to document the following mental health services: Individual counseling, group counseling, community meetings, family counseling sessions, screenings/evaluations, and collateral contact with services providers involved in the UAC's case. Mental Health Group Events (Form MH-3) may be linked to a Clinical Contact Log entry.

5. Mental Health Referral (Form MH-5): This instrument is used by clinicians and/or medical coordinators to refer a UAC for community-based mental health care services (assessments/evaluations, psychotherapy, medical referrals, and treatment), acute and long-term psychiatric hospitalizations, and referrals to out-of-network residential treatment centers.

6. Mental Health Service Report (Form MH-6): This instrument is used by clinicians and/or medical coordinators to document the provision of community-based mental health care services (assessments/evaluations, psychotherapy, medical referrals, and treatment), acute and long-term psychiatric hospitalizations, and referrals to out-of-network residential treatment centers. In addition, the UAC interview portion of the Out-of-Network Site Visit Report (Form M-3B), which is part of a different information collection request, is accessible from within this instrument.

7. Mental Health Task (Form MH-7): This instrument is auto-generated to create reminders for clinicians and/or medical coordinators of tasks that must be completed. Clinicians and/or medical coordinators may edit the instrument after it is generated.

Respondents: ORR grantee and contractor staff, and UAC.

Annual Burden Estimates
Instrument | Annual total number of respondents | Annual total number of responses per respondent | Average burden minutes per response | Annual total burden hours
Initial Mental Health Evaluation (Form MH-1) | 216 | 241 | 60 | 52,056
Columbia SSRS Risk Assessment (Form MH-2) | 216 | 5 | 45 | 810
Mental Health Group Event (Form MH-3) | 216 | 156 | 10 | 5,616
Clinical Contact Log (Form MH-4) | 216 | 11,194 | 10 | 402,984
Mental Health Referral (Form MH-5) | 216 | 24 | 45 | 3,888
Mental Health Service Report (Form MH-6) | 216 | 31 | 45 | 5,022
Mental Health Task (Form MH-7) | 216 | 55 | 5 | 990
Estimated Annual Burden Hours Total: |  |  |  | 471,366

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232; Flores v. Reno Settlement Agreement, No. CV85-4544-RJK (C.D. Cal. 1996).

Mary B. Jones,
ACF/OPRE Certifying Officer.

[FR Doc. 2021-00001 Filed 1-6-21; 8:45 am]

BILLING CODE 4184-45-P